GENERAL SERVICES ADMINISTRATION

Privacy Act of 1974; Notice of a New System of Records

AGENCY: General Services Administration

ACTION: Notice of a new system of records.

SUMMARY: The General Services Administration (GSA) is providing notice of a new record system, Excluded Parties List System (GSA/GOVT-8). The system contains information entered by Federal agencies that identifies individuals excluded from Federal Government procurement and nonprocurement programs and the applicable authority for the exclusion. System functions include Web Service capability, ad hoc search and report capabilities, integration with the Central Contractor Registration system to allow Data Universal Numbering System (DUNS) and data sharing capabilities for Debar Maintenance users, and a new data field to accept the reporting of cage codes.

EFFECTIVE DATE: The system of records will become effective without further notice on January 4, 2007 unless comments received on or before that date result in a contrary determination.

FOR FURTHER INFORMATION CONTACT: Call or e-mail the GSA Privacy Act Officer: telephone 202-501-1452/202-208-1317; e-mail gsa.privacyact@gsa.gov.

ADDRESSES: Comments may be submitted to the Program Manager, Integrated Acquisition Environment Program, Office of the Chief Acquisition Officer, General Services Administration, 2011 Crystal Drive, Suite 911, Arlington, VA 22202.

SUPPLEMENTARY INFORMATION: This system of records is used to maintain a Governmentwide system that identifies individuals and businesses that have been excluded from participating in Federal procurement and nonprocurement programs throughout the Government. The purpose of these exclusions is to prevent the Federal government from conducting business with nonresponsible contractors and to protect the integrity of the Government’s procurement activities.

Dated: November 28, 2006.
Cheryl M. Paige,
Acting Director, Office of Information Management.

GSA/GOV-8

System number:

GSA/GOVT-8

System name:

Excluded Parties List System (EPLS).

System location:

The General Services Administration's (GSA) Office of the Chief Acquisition Officer (OCAO) is the owner of the system. The system of records is maintained by a contractor. Contact the system manager for additional information.

Categories of individuals covered by the system:

a. Individuals excluded or disqualified under a Federal agency's codification of the Common Rules on Nonprocurement suspension and debarment, or otherwise declared ineligible from receiving certain Federal assistance and/or benefits.

b. Individuals debarred, suspended, proposed for debarment, or otherwise declared ineligible from participating in Federal procurement programs.

c. Individuals barred or suspended from acting as sureties for bid and performance bond activity in procurement programs.

d. Individuals barred from entering the United States.

e. Individuals that may be subject to sanctions pursuant to 31 CFR Parts 500-599 and subparts there under.

Categories of records in the system:

Information entered by Federal agencies that identifies excluded individuals and the applicable authority, in the form of cause and treatment (CT) codes, under which the exclusion was made.

Authorities for maintenance of the system:

The authorities for maintaining the system are the Federal Acquisition Regulation Subparts 9.4 and 28.2; Executive Order 12549 (February 18, 1986); Executive Order 12689 (August 16, 1989); and 31 U.S.C. § 6101, note.

Purpose:

To maintain a Governmentwide system of records that identifies individuals who have been excluded from participating in Federal procurement and nonprocurement (financial or non-financial assistance and benefits programs), throughout the Federal government. In some instances a record may demonstrate that an exclusion applies only to the agency taking the action, and therefore, does not have Governmentwide effect. The purpose of these exclusions is to protect the Government from nonresponsible contractors and individuals, ensure proper management throughout the Federal government, and protect the integrity of Federal activities.

Routine uses of records in the system, including the types of users and their purposes for using the records:

a. To contracting officers and other Federal, State, and local government employees involved in procuring goods and services with Federal funds or administering Federal financial assistance programs or benefits to determine a party's eligibility status to participate in Federal procurement and nonprocurement programs.

b. To a Federal, State, local, or foreign agency responsible for investigating, prosecuting, enforcing, or carrying out a statute, rule, regulation, or order where the records clearly indicate, or when seen with other records indicate, a violation of civil or criminal law or regulation, when the information is needed to perform a Federal duty or to decide the issues.

c. To a Federal, State or local agency, financial institution or a healthcare or industry provider that administers Federal financial or non-financial assistance programs or benefits, when the information is needed to determine eligibility.

d. To an expert, consultant, contractor, Federal, State or local agency, or financial institution, when the information is needed to perform a Federal duty.

e. To an appeal, grievance, or formal complaints examiner, an equal employment opportunity investigator, an arbitrator, a union representative, or other official engaged in investigating or settling a grievance, complaint, or appeal filed by an employee, when the information is needed to decide the issues.

f. To a requesting Federal, State or local agency, financial institution, or a healthcare or industry provider in connection with hiring or retaining an employee, issuing a security clearance, investigating an employee, clarifying a job, letting a contract, or issuing a license, grant, or other benefit by the requesting agency where the information is needed to decide on a Federal financial or non-financial assistance program or benefit.

g. To a member of Congress or to a congressional staff member in response to a request from the person who is the subject of the record, when the information is needed to perform a Federal duty.

h. To the Department of Justice when an agency, an agency employee, or the United States is a party to or has an interest in litigation, and the records are needed to pursue the litigation.

i. To a court or judicial body when an agency, an agency employee, or the United States is a party to or has an interest in litigation, and the records are needed to pursue the litigation.

j. To the Office of Personnel Management (OPM), the Office of Management and Budget (OMB), the Government Accountability Office (GAO) or the Interagency Suspension and Debarment Committee (ISDC) when the information is required for program evaluation purposes.

k. To the National Archives and Records Administration (NARA) for records management purposes.

Policies and practices for storing, accessing, retrieving, maintaining, and disposing of records in the system:

Storage:

Electronic records are stored on readily accessible servers and backed up to tape media. Paper records are stored in file folders.

Retrievability:

Electronic records are retrieved by Exact Name, Partial Name, Action Dates, Termination Dates, Create Dates, Data Universal Numbering System (DUNS), Classification, Exclusion Type, CT Code, Agency, U.S. State, Country, Cage Code, verification of Name with the Social Security Number (SSN) or the Tax Identification Number (TIN), and verification of Name with residential street address.

Safeguards:

System records are safeguarded in accordance with the requirements of the Privacy Act of 1974, as amended, the Computer Security Enhancement Act of 1997, and the EPLS Security Plan. Technical, administrative, and personnel security measures are implemented to ensure confidentiality and integrity of the system data that is stored, processed, and transmitted. Paper records are stored in locked filing cabinets when not in use or are kept in secured rooms, accessible to authorized users only. The Debar Maintenance and Administration portals are ID and password protected. The public portal does not require ID and passwords because privacy protected information is not available on the public site.

Retention and disposal:

Electronic records of past exclusions are maintained permanently in the archive list for historical reference. Federal agencies reporting exclusion information in the EPLS should follow their agency's guidance and policies for disposition of paper records.

System manager(s) and address:

Integrated Acquisition Environment Program Manager, Office of the Chief Acquisition Officer, General Services Administration, 2011 Crystal Drive, Suite 911, Arlington, VA 22202.

Notification procedure:

Individuals receive prior notification that their names will be contained in the EPLS from the Agency that takes the action to exclude them from Federal procurement and nonprocurement programs. An individual may retrieve system records by accessing the EPLS public portal, which displays publicly available information only.

Record access procedure:

Requests from individuals to determine the specifics of a record included in the EPLS should be addressed to the Agency Point of Contact (POC) identified in the record.

Contesting record procedure:

The procedures for contesting the content of a record and appealing an initial decision may be found in 41 CFR Part 105-64. Individuals should contact the Agency Point of Contact (POC) identified in the record to commence a record contest or appeal.

Record sources:

Federal agencies are the source for entering record information in the EPLS.

[FR Doc. E6-20484 Filed 12-04-06; 8:45 am]

BILLING CODE 6820-34-S